DEPARTMENT OF COMMERCE

Minority Business Development Agency

[Docket No.: 071107681-7682-01]

Extension of the Award Period for Certain Native American Business Enterprise Centers

AGENCY: Minority Business Development Agency, Commerce.

ACTION: Notice.

SUMMARY: The Minority Business Development Agency (MBDA) is publishing this notice to allow for up to a 180-day funded extension, on a non-competitive basis, of the award periods for those Native American Business Enterprise Centers (NABECs) identified in this notice whose current award period is scheduled to end on December 31, 2007. MBDA is taking this action to allow for continued program delivery by the identified NABEC operators while MBDA completes the competitive solicitation and award processes for the next three (3) year NABEC award period.

DATES: The award period and related funding, if approved by the Department of Commerce Grants Officer, will commence January 1, 2008 and will continue for a period not to exceed 180 days.

FOR FURTHER INFORMATION CONTACT: Mr. Efrain Gonzalez, Chief, Office of Business Development, Minority Business Development Agency, 1401 Constitution Avenue, NW., Room 5075, Washington, DC 20230. Mr. Gonzalez may be reached by telephone at (202) 482-1940 and by e-mail at egonzalez@mbda.gov.

SUPPLEMENTARY INFORMATION: Pursuant to Executive Order 11625, the NABEC Program provides standardized business assistance and development services directly to Native American- and other eligible minority-owned businesses. The NABEC Program is a key component of MBDA's overall business development assistance program and promotes the growth and competitiveness of eligible businesses and further incorporates an entrepreneurial approach to the delivery of client services. This entrepreneurial strategy expands the reach and service delivery of the NABEC Program by requiring project operators to develop and to build upon strategic alliances with public and private sector partners as a means of serving eligible businesses within each NABEC's applicable geographical service area. MBDA currently funds a network of eight (8) NABEC projects located throughout the United States.

This notice amends MBDA's prior Federal Register notice dated August 29, 2003 (68 FR 51981), as amended on September 30, 2003 (68 FR 56267), February 11, 2004 (69 FR 6644), February 19, 2004 (69 FR 7726) and October 25, 2006 (71 FR 62420) to allow for up to a 180-day funded extension, on a non-competitive basis, of the award period for the following five (5) NABECs whose award period is scheduled to end on December 31, 2007: Minnesota/Iowa Statewide NABEC (Minnesota Chippewa Tribe); North Dakota/South Dakota Statewide NABEC (United Tribes Technical College); Arizona Statewide NABEC (The National Center for American Indian Enterprise Development); California Statewide NABEC (The National Center for American Indian Enterprise Development); and the Northwest NABEC (The National Center for American Indian Enterprise Development). MBDA is taking this action to allow for continued program delivery by the five identified NABEC operators while MBDA completes the competitive solicitation and award processes for the next three (3) year NABEC award period. The remaining three (3) NABEC projects: North Carolina Statewide NABEC (The National Center for American Indian Enterprise Development); New Mexico Statewide NABEC (American Indian Chamber of Commerce of New Mexico); and the Oklahoma Statewide NABEC (Rural Enterprises of Oklahoma, Inc.) are not affected by this notice as their respective awards period do not expire until the end of July or August 2008 (as the case may be).

The allowable award extensions and additional funding set forth herein will be made at the sole discretion of MBDA and the Department of Commerce using the evaluation criteria and process used to determine the continuation of funding during the original award period (Program Years 1-4). In making such determinations, the following factors will be considered: (1) The NABEC's program performance rating during the prior program period; (2) the availability of appropriated funds; and (3) MBDA and Department of Commerce priorities. MBDA will review the project's performance rating as evaluated through the standardized performance reports and assessments required under the NABEC Program. Projects receiving below a “Satisfactory” performance rating in the prior program period will be eligible for an award extension under this notice.

Funding for the allowable award extensions listed in this notice is contingent upon the availability of Fiscal Year 2008 appropriations, which have not yet been appropriated for the NABEC program. MBDA therefore issues this notice subject to the appropriations made available under the current continuing resolution, H.J. Res. 52, “Making continuing appropriations for the fiscal year 2008, and for other purposes,” Public Law 110-92. In no event will MBDA or the Department of Commerce be responsible to cover any costs incurred outside of the current award period by the incumbent operators of the five (5) NABEC projects affected by this notice if the NABEC Program fails to receive funding or is cancelled because of other MBDA or Department priorities. Publication of this announcement does not oblige MBDA or the Department to award any extensions or to obligate any available funds for such purpose.

Department of Commerce Pre-Award Notification Requirements for Grants and Cooperative Agreements

The Department of Commerce Pre-Award Notification Requirements for Grants and Cooperative Agreements contained in the December 30, 2004 Federal Register notice (69 FR 78389) are applicable to this notice.

Executive Order 12866

This notice has been determined to be not significant for purposes of E.O. 12866.

Executive Order 13132 (Federalism)

It has been determined that this notice does not contain policies with Federalism implications as that term is defined in Executive Order 13132.

Administrative Procedure Act/Regulatory Flexibility Act

Prior notice and an opportunity for public comment are not required by the Administrative Procedure Act for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis is not required and has not been prepared.

Authority: 15 U.S.C. 1512 and Executive Order 11625.

Dated: November 9, 2007.
Ronald N. Langston,
National Director, Minority Business Development Agency.

[FR Doc. E7-22387 Filed 11-14-07; 8:45 am]

BILLING CODE 3510-21-P